DEPARTMENT OF COMMERCE

Foreign-Trade Zones Board

[B-46-2022]

Foreign-Trade Zone 59—Lincoln, Nebraska: Application for Expansion of Subzone 59B: CNH Industrial America LLC: Grand Island, Nebraska

Correction

In Notice Document 2022-21361, appearing on page 59775, in the issue of Monday, October 3, 2022, make the following corrections:

1. On page 59775, in the second column, in the third paragraph, beginning on the sixth line, the text reading “[INSERT DATE 40 DAYS AFTER DATE OF PUBLICATION IN THE Federal Register]” should read “November 14, 2022”.

2. On page 59775, in the same column, in the same paragraph, beginning on the twelfth line, the text reading “[INSERT DATE 55 DAYS AFTER DATE OF PUBLICATION IN THE Federal Register]” should read “November 28, 2022”.

[FR Doc. C1-2022-21361 Filed 10-24-22; 8:45 am]

BILLING CODE 0099-10-D